DEPARTMENT OF COMMERCE

National Oceanic and Atmospheric Administration

RIN 0648-XC674

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Monkfish Committee on May 29, 2013 and May 30, 2013 to consider actions affecting New England fisheries in the exclusive economic zone (EEZ). Recommendations from this group will be brought to the full Council for formal consideration and action, if appropriate.

DATES: This meeting will be held on Wednesday, May 29, 2013 at 10 a.m. and Thursday, May 30, 2013 at 8:30 a.m.

ADDRESSES: Meeting address: The meeting will be held at the Hotel Providence, 139 Mathewson Street, Providence, RI 02903; telephone: (401) 861-8000; fax: (401) 732-9309.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The Monkfish Oversight Committee will: (1) Provide an assessment update review; (2) report on the May 16 Scientific and Statistical Committee meeting and recommendations for Allowable Biological Catch (ABC); (3) report on the April 30 Plan Development Team (PDT) meeting; (4) provide a presentation outlining DAS/trip limit options developed by the PDT; (5) discuss and develop recommendations to the New England and Mid-Atlantic Councils for a range of alternatives to be included in Framework 8 including, but not limited to, Annual Catch Targets (ACT—applying management uncertainty to ACL), the range of DAS/trip limit alternatives (specifications), changes to the permit category H fishery boundary and any other options for DAS changes; (6) discuss, including motions, as appropriate, the range of alternatives to be included in the Amendment 6 document, including possible removal of the ITQ alternative; (7) discuss, including development of recommendations, as appropriate, possible revisions to the pending monkfish Emergency Action for the 2013 fishing year; (8) consider and develop a recommendation to the Councils that monkfish permit renewal be required at the start of the fishing year to address state waters fishing; (9) time permitting, consider making recommendations on changes to the Research Set-Aside priorities; (10) closed session to review/recommend Advisory Panel applications.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: May 7, 2013.
Tracey L. Thompson,
Acting Deputy Director, Office of Sustainable Fisheries, National Marine Fisheries Service.

[FR Doc. 2013-11155 Filed 5-9-13; 8:45 am]

BILLING CODE 3510-22-P